DEPARTMENT OF THE INTERIOR

Fish and Wildlife Service

[Docket No. FWS-HQ-IA-2015-0153; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
46280B | Project Survival | 80 FR 24961; May 1, 2015 | September 23, 2015.
63546B | Project Survival | 80 FR 24961; May 1, 2015 | September 23, 2015.
075249 | Sam Noble Oklahoma Museum of Natural History | 80 FR 43790; July 23, 2015 | September 23, 2015.
64797A | Recordbuck Ranch | 80 FR 43790; July 23, 2015 | September 23, 2015.
51130B | Brady Champion Ranch, LLC | 80 FR 43790; July 23, 2015 | September 25, 2015.
58205B | Washington Park Zoo | 80 FR 43790; July 23, 2015 | September 10, 2015.
71117B | Mark Corry | 80 FR 46042; August 3, 2015 | September 10, 2015.
59071B | Earth Promise | 80 FR 46042; August 3, 2015 | September 23, 2015.
71735B | Steven Smith | 80 FR 47947; August 10, 2015 | September 11, 2015.
72213B | John Klein | 80 FR 47947; August 10, 2015 | September 11, 2015.
66259B | Stanford University | 80 FR 47947; August 10, 2015 | September 29, 2015.
72286B | Robert Windstead | 80 FR 51299; August 24, 2015 | September 25, 2015.
72842B | Jeffery Palmer | 80 FR 51299; August 24, 2015 | September 25, 2015.
73008B | Andrew Wood | 80 FR 51299; August 24, 2015 | September 25, 2015.
66618B | U.S. Geological Survey | 80 FR 51299; August 24, 2015 | October 9, 2015.
68941B | John Justus | 80 FR 51299; August 24, 2015 | September 25, 2015.
53920B | Zoological Society of Cincinnati/Cincinnati Zoo & Botanical Gardens | 80 FR 53323; September 3, 2015 | October 9, 2015.
74210B | Richard Papapietro | 80 FR 55868; September 17, 2015 | October 19, 2015.
74205B | David Florance | 80 FR 55868; September 17, 2015 | October 19, 2015.
Marine Mammals
45505B | Terri Williams, University of California | 79 FR 72007; December 4, 2014 | October 13, 2015.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2015-26878 Filed 10-22-15; 8:45 am]

BILLING CODE 4333-15-P